DEPARTMENT OF THE TREASURY

Office of Foreign Assets Control

Unblocking of Specially Designated Nationals and Blocked Persons Pursuant to Executive Orders 13288 and 13391

AGENCY: Office of Foreign Assets Control, Treasury.

ACTION: Notice.

SUMMARY: The Treasury Department's Office of Foreign Assets Control (“OFAC”) is publishing the names of two individuals and four entities the property and interests in property of which have been unblocked pursuant to Executive Order 13288 of March 6, 2003, “Blocking Property of Persons Undermining Democratic Processes or Institutions in Zimbabwe” (“Executive Order 13288”), and/or Executive Order 13288, as amended by Executive Order 13391 of November 22, 2005, “Blocking Property of Additional Persons Undermining Democratic Processes or Institutions in Zimbabwe” (“Executive Order 13391”).

DATES: The unblocking and removal from the list of Specially Designated Nationals and Blocked Persons (“SDN List”) of the two individuals and four entities identified in this notice the property and interests in property of which were blocked pursuant to Executive 13288 and/or Executive Order 13288, as amended by Executive Order 13391, is effective on June 21, 2011.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (http://www.treas.gov/ofac). Certain general information pertaining to OFAC's sanctions programs is also available via facsimile through a 24-hour fax-on-demand service, tel.: 202/622-0077.

Background

On March 6, 2003, the President, invoking the authority of, inter alia, the International Emergency Economic Powers Act (50 U.S.C. 1701-06) (“IEEPA”) issued Executive Order 13288 (68 FR 11457, March 10, 2003). In Executive Order 13288, the President declared a national emergency to deal with the threat posed by the actions and policies of certain members of the Government of Zimbabwe and other persons to undermine Zimbabwe's democratic processes or institutions, contributing to the deliberate breakdown in the rule of law in Zimbabwe, to politically motivated violence and intimidation in that country, and to political and economic instability in the southern African region. The Annex to Executive Order 13288 included 77 individuals, including the two individuals identified in this notice, which resulted in the blocking of all property and interests in property of these individuals that was or thereafter came within the United States or the possession or control of U.S. persons. Executive Order 13288 also authorized the Secretary of the Treasury, in consultation with the Secretary of State, to designate additional persons determined to meet the criteria set forth in Executive Order 13288. Subsequently, the four entities identified in this notice were designated pursuant to Executive Order 13288, which resulted in the blocking of all property and interests in property of these entities that was or thereafter came within the United States or the possession or control of U.S. persons.

On November 22, 2005, in order to take additional steps with respect to the continued actions and policies of certain persons who undermine Zimbabwe's democratic processes and with respect to the national emergency described and declared in Executive Order 13288, the President, invoking the authority of, inter alia, IEEPA, issued Executive Order 13391 (70 FR 71201, November 25, 2005). Executive Order 13391 amends Executive Order 13288 and provides that the Annex to Executive Order 13288 is replaced and superseded in its entirety by the Annex to Executive Order 13391, containing the names of 128 individuals and 33 entities, including the two individuals and four entities identified in this notice. Executive Order 13288, as amended by Executive Order 13391, authorizes the Secretary of the Treasury, in consultation with the Secretary of State, to block the property and interests in property of additional categories of persons beyond the category set forth in Executive Order 13288 prior to its amendment.

Executive Order 13288, as amended by Executive Order 13991, also authorizes the Secretary of the Treasury, in consultation with the Secretary of State, to determine that circumstances no longer warrant the inclusion of a person in the Annex to Executive Order 13288, as replaced and superseded by the Annex to Executive Order 13991, and to unblock any property and interests in property that had been blocked as a result of the person's inclusion in the Annex.

On June 21, 2011, the Director of OFAC, in consultation with the State Department, determined that circumstances no longer warrant the designation of the four entities listed below pursuant to Executive Order 13288 or the inclusion of the four entities, and the two individuals, listed below in the Annex to Executive Order 13288, as replaced and superseded by the Annex to Executive Order 13391, and that the property and interests in property of the individuals and entities listed below are therefore no longer blocked pursuant to the aforementioned Executive Orders, and accordingly removed them from the SDN List.

Individuals

1. MANYIKA, Elliot, P.O. Box 300, Bindura, Zimbabwe; DOB 30 Jul 1955; Passport AD000642 (Zimbabwe); Minister Without Portfolio (individual) [ZIMBABWE].

2. ZVINAVASHE, Vitalis; DOB 27 Sep 1943; Politburo Member & Retired Commander of Zimbabwe Defense Forces (individual) [ZIMBABWE].

Entities

1. DUIKER FLATS FARM, Zimbabwe [ZIMBABWE].

2. SUBDIVISION 3 OF CALEDON FARM, Caledon, Zimbabwe [ZIMBABWE].

3. SWIFT INVESTMENTS (PVT) LTD., 730 Cowie Road, Tynwald, Harare, Zimbabwe; P.O. Box 3928, Harare, Zimbabwe [ZIMBABWE].

4. ZVINAVASHE INVESTMENTS LTD. (a.k.a. LAMFONTINE FARM; a.k.a. ZVINAVASHE TRANSPORT), 730 Cowie Road, Tynwald, Harare, Zimbabwe; P.O. Box 3928, Harare, Zimbabwe [ZIMBABWE].

Dated: June 21, 2011.
Adam J. Szubin,
Director, Office of Foreign Assets Control.

[FR Doc. 2011-16182 Filed 6-27-11; 8:45 am]

BILLING CODE 4810-AL-P